DEPARTMENT OF HEALTH AND HUMAN SERVICES

Administration for Children and Families

[Program Announcement No. 93581-2003]

Administration for Native Americans: Availability of Financial Assistance

AGENCY: Administration for Native Americans ACF, DHHS.

ACTION: Announcement of availability of competitive financial assistance for improving the capability of Indian Tribal governments to regulate environmental quality.

SUMMARY: The Administration for Native Americans (ANA) announces the anticipated availability of fiscal year 2003 funds for Environmental Regulatory Enhancement projects. Financial assistance provided by ANA is designed to assist applicants in planning, developing and implementing projects which will improve the capability of eligible applicants to regulate environmental quality pursuant to Federal and Tribal environmental laws.

The printed Federal Register notice is the only official program announcement. Although all reasonable efforts are taken to assure that the files on the ANA World Wide Web Page containing electronic copies of this program announcement are accurate and complete, they are provided for information only. The applicant bears sole responsibility to assure that the copy downloaded and/or printed from any other source is accurate and complete. Copies of this program announcement and many of the required forms may be obtained by calling the toll free ANA Applicant Help Desk at 1-877-922-9262 or electronically at the ANA World Wide Web address, http://www.acf.hhs.gov/programs/ana/.

CLOSING DATE: The closing date for this announcement is February 28, 2003.

SUPPLEMENTARY INFORMATION:

Introduction and Purpose

This notice announces the anticipated availability of the fiscal year 2003 funds for the Environmental Regulatory Enhancement Program, authorized under Section 803(d) of the Native American Programs Act of 1974 (Act), 42 U.S.C. 2991b.

The availability of funds for this competitive area is contingent upon sufficient final Congressional appropriations. Proposed projects will be reviewed on a competitive basis against the specific evaluation criteria presented in this announcement.

Information regarding ANA's policy, goals, application requirements, review criteria and closing date for this competitive area are included in this announcement.

This program announcement consists of three parts.

Part I—ANA Policy and Goals

Provides general information about ANA's policies and goals for this competitive area. This section contains information pertaining to all applicants.

Part II—ANA Competitive Area

Describes the competitive area, Environmental Regulatory Enhancement, under which ANA is requesting applications. The following sections provide information to be used to develop an application:

A. Purpose and Availability of Funds

B. Background

C. Proposed Projects To Be Funded

D. Eligible Applicants

E. Grantee Share of the Project

F. Review Criteria

G. Application Due Date(s)

H. Program Information Contact

Part III—General Application Information and Guidance

Provides important information and guidance that applies to this competitive area and must be taken into account in developing an application.

A. Definitions

B. Activities That Cannot Be Funded

C. Project and Budget Periods

D. Intergovernmental Review of Federal Programs

E. The Application Process

F. The Review Process

G. General Guidance to Applicants

H. Paperwork Reduction Act of 1995

I. Postmarked by Deadline

J. Standard Forms, Certifications and Assurances

Part I—ANA Policy and Goals

The Administration for Native Americans believes that responsibility for achieving environmental regulatory enhancement rests with the governing bodies of Indian tribes, Alaska Native villages, and with the leadership of Native American groups.

Environmental regulatory enhancement includes but is not limited to: the planning, development, and application of laws; training; monitoring and enforcement procedures; and associated regulatory activities to strengthen the tribal government's capacity to enhance the quality of reservation life as measured by the reduction of pollutants in the air, water, soil, food and materials encountered by inhabitants of tribes and villages.

Progress toward the goal of environmental regulatory enhancement would also include but is not limited to: the strengthening of tribal environmental laws, providing for the training and education of those employees responsible for ensuring compliance with and enforcement of these laws, environmental assessments, development and use of environmental laboratories and other facilities; and the development of tribal court systems and programs to conduct compliance and enforcement functions.

ANA supports these activities on a government-to-government basis in a way that recognizes tribal sovereignty and is consistent with tribal culture. Applicants must comply with the following administrative policies:

• A current Indian Environmental Regulatory Enhancement grantee whose grant project period extends beyond September 30, 2003 or which has requested an extension of the grant project beyond that date, will not be funded under this announcement.

• Applicants must describe a locally determined strategy to carry out a proposed project with fundable objectives and activities.

• Local long-range planning must consider the maximum use of all available resources, describe how the resources will be directed to development opportunities, and present a strategy for overcoming the local issues that hinder movement toward self-sufficiency in the community.

• An application from a federally recognized Tribe, Alaska Native Village or Native American organization must be from the governing body of the Tribe or organization.

• ANA will not accept applications from tribal components which are tribally-authorized divisions of a larger tribe, unless the application includes a Tribal resolution which clearly demonstrates the Tribe's support of the project and the Tribe's understanding that the other applicant's project supplants the Tribe's authority to submit an application under that specific competitive area both for the current competition and for the duration of the approved grant period, should the application be funded.

• If a federally recognized Tribe or Alaska Native village chooses not to apply, it may support another applicant's project (e.g., a tribal organization) which serves or impacts their reservation. In this case, the applicant must include a Tribal resolution which clearly demonstrates the Tribe's approval of the project and the Tribe's understanding that the other applicant's project supplants the Tribe's authority to submit an application under that specific competitive area both for the current competition and for the duration of the approved project period, should the application be funded.

• ANA will only accept one application which serves or impacts a reservation, Tribe, or Native American community.

• Non-Profit Status: Any non-profit organization submitting an application must submit proof of its non-profit status in its application at the time of submission. The non-profit agency can accomplish this by providing a copy of the listing in the Internal Revenue Service's (IRS) most recent list of tax-exempt organizations described in section 501(c)(3) of the IRS code or by providing a copy of the currently valid IRS tax exemption certificate, or by providing a copy of the articles of incorporation bearing the seal of the Federally recognized Tribe or State in which the corporation or association is domiciled.

• If the applicant, other than a tribe or an Alaska Native Village government, is proposing a project benefiting Native Americans or Alaska Natives, or both, it must provide assurance that the majority of its duly elected or appointed board of directors is representative of the community to be served.

• Matching/Cost Sharing: Grantees must provide at least 20 percent of the total approved cost of the project. The total approved cost of the project is the sum of the ACF share and the non-Federal share. The non-Federal share may be met by cash or in-kind contributions, although applicants are encouraged to meet their match requirements though cash contributions. Therefore, a project requesting $100,000 in Federal fund (based on an award of $100,000 per budget period) must provide a match of at least $25,000 (20% total approved project cost). Grantees will be held accountable for commitments of non-Federal resources even if over the amount of the required match. Failure to provide the amount will result in disallowance of Federal match. An itemized budget detailing the applicant's non-Federal share, and its source(s), must be included in the application.

• A request for a waiver of the non-Federal share requirement may be submitted in accordance with 45 CFR 1336.50(b)(3) of the Native American Program Regulations.

Part II—Competitive Area: Indian Environmental Regulatory Enhancement Projects

A. Purpose and Availability of Funds

This competitive area funds environmental regulatory enhancement projects. Approximately $3 million in financial assistance is anticipated to be available for these projects. ANA expects to award approximately 35 grants under this competitive area. The funding level for a budget period of 12 months will be up to $250,000. An applicant may propose project periods of between 12 and 36 months.

B. Background

Despite an increasing environmental responsibility and growing awareness of environmental issues on Indian lands, there has been a lack of resources available to tribes to develop tribal environmental programs that are responsive to tribal needs. In many cases, the lack of resources has resulted in a delay in action on the part of the tribes.

In 1990, Congress added Section 803(d) to the Native American Programs Act of 1974 to address critical issues identified by tribes before congressional committees, some of which included: The need for assistance to train professional staff to monitor and enforce tribal environmental programs; the lack of adequate data for tribes to develop environmental statutes and establish quality environmental standards; and the lack of resources to conduct studies to identify sources of pollution and determine the impact on existing environmental quality.

The Native American Program's Act of 1974 was amended to strengthen tribal governments through building capacity in order to identify, plan, develop, and implement environmental programs in a manner that is consistent with tribal culture. Ultimate success in this program will be realized when the applicant's desired level of environmental quality is acquired and maintained.

C. Proposed Projects To Be Funded

Financial assistance provided by ANA is available for developmental projects designed to assist tribes in advancing their capacity and capability to plan for and:

• Develop or enhance the tribal environmental regulatory infrastructure required to support a tribal environmental program, and to regulate and enforce environmental activities on Indian lands pursuant to Federal and Indian law;

• Develop regulations, ordinances and laws to protect the environment;

• Develop the technical and program capacity to carry out a comprehensive tribal environmental program and perform essential environmental program functions;

• Promote environmental training and education of tribal employees;

• Develop technical and program capability to meet tribal and Federal regulatory requirements;

• Develop technical and program capability to monitor compliance and enforcement of tribal environmental regulations, ordinances, and laws; and

• Ensure that tribal court system enforcement requirements are developed in concert with and in support of the tribe's comprehensive environmental program.

D. Eligible Applicants

The following organizations are eligible to apply under this competitive area:

• Federally recognized Indian tribes;

• Incorporated non-federally and State recognized Indian tribes;

• Alaska Native villages as defined in the Alaska Native Claims Settlement Act (ANCSA) and/or nonprofit village consortia;

• Nonprofit Alaska Native Regional Corporations/Associations with village specific projects;

• Other tribal or village organizations or consortia of Indian tribes; and

• Tribal governing bodies (IRA or traditional Councils) as recognized by the Bureau of Indian Affairs.

The following organizations are not eligible to apply under Section 803(d) of the Native Americans Programs Act of 1974 and the ANA regulations at 45 CFR 1336.33(a)(4). These organizations have been excluded from eligibility because they are neither Tribes nor Tribal organizations, which customarily act on the behalf of tribes in environmental matters.

• Urban Indian Centers;

• Incorporated nonprofit multi-purpose community-based Indian organizations;

• Public and nonprofit private agencies serving: Native Hawaiians, peoples from Guam, American Samoa, and the Commonwealth of Northern Mariana Islands;

• Incorporated nonprofit Alaska Native multi-purpose community based organizations; and

• National or regional incorporated nonprofit Native American organizations with Native American community-specific objectives.

E. Grantee Share of the Project

Grantees must provide at least 20 percent of the total approved cost of the project. The total approved cost of the project is defined as the sum of the Federal request and the non-Federal share. The non-Federal share may be met by cash or in-kind contributions, although applicants are encouraged to meet their match requirements through cash contributions. For example, a project requesting $100,000 in Federal funds must provide a non-federal share match of at least $25,000 (20 percent of the total approved project cost or 25 percent of the Federal request).

Failure to provide the non-federal share amount stated in the proposal will result in disallowance of an equivalent portion of the funds awarded to the grantee.

As per 45 CFR Part 74.2, in-kind contributions are defined as the value of non-cash contributions provided by non-Federal third parties. Third party in-kind contributions may be in the form of real property, equipment, supplies and other expendable property, and the value of goods and services directly benefiting and specifically identifiable to the project or program.(See 45 CFR Part 92)

In addition, an applicant may provide matching funds from other Federal funding sources where legislation authorizes use of funds for match and provided the source relates to the ANA project. Under 45 CFR 74.23(a)(5) use of funds under another Federal Program for non-Federal match must be authorized by statute.

F. Review Criteria

The evaluation criteria are closely related to each other and are considered as a whole in judging the overall quality of an application. Points are awarded only to applications that are responsive to this competitive area and these criteria. Proposed projects will be reviewed on a competitive basis using the following evaluation criteria:

(1) Long-Range Goals and Available Resources (20 Points)

(a) The application describes the long-range goals and strategy, including:

• How specific environmental regulatory enhancement long-range goal(s) relate to the proposed project and strategy;

• How the community intends to achieve these goals;

• The applicant's specific environmental regulatory needs; and

• A clearly delineated strategy to improve the capability of the governing body of a tribe to regulate environmental quality through enhancing local capacity to perform necessary regulatory functions.

Description and documentation of the long-term goals and strategy may by met in several ways.

• The application identifies and documents pre-existing and planned involvement and support of the community in the planning process and implementation of the proposed project.

• The type of community you serve and nature of the proposal will influence the type of documentation necessary. For example, a Tribe may choose to address this requirement by submitting a resolution stating that community involvement has occurred in the project planning or may determine that additional community support work is necessary.

• Similarly, a tribal organization may submit resolutions supporting the project proposal from each of its member tribes, as well as a resolution from the applicant organization.

• Other examples of documentation include: Community surveys; minutes of community meetings; questionnaires; tribal presentations; and/or discussion/position papers.

Supporting documentation, including letters of support, if available, or other specific testimonies from concerned interests other than the applicant should be included to demonstrate support for the feasibility of the project.

In discussing the goals, strategy, and needs being addressed in the application, include sufficient background and/or history of the community concerning these issues and/or progress to date, as well as the size of the population to be served. This material will assist the reviewers in determining the appropriateness and potential benefits of the proposed project.

(b) Available resources (other than ANA and the non-Federal share) which will assist, and be coordinated with the project are described. Non-ANA resources should be leveraged to strengthen and broaden the impact of the proposed project in the community.

• These other available resources may be human, natural or financial, and may include other Federal and non-Federal resources. Applicant statements that additional funding will be sought from other specific sources are not considered a binding commitment of outside resources.

• Project designs should explain how those parts of projects which ANA does not fund will be financed through other sources. For example, ANA does not fund construction. A commitment from another Federal agency or foundation pledging $200,000 in construction funding to complement proposed ANA funded pre-construction activity is evidence of a firm funding commitment.

• Applicants must show the relationship of non-ANA funded activities to those objectives and activities that are funded with ANA grant funds.

• In the proposal, the applicant should describe any specific financial circumstances that may impact on the project, such as any monetary or land settlements made to the applicant, and any restrictions on the use of those settlements. When the applicant appears to have other resources to support the proposed project and chooses not to use them, the applicant should explain why it is seeking ANA funds and not using these resources for the project.

(2) Organizational Capabilities and Qualifications (15 Points)

(a) Organizational capabilities are described in the application.

• The management structure of the applicant is explained.

• Evidence of the applicant's ability to manage a project of the scope proposed is well documented. The application clearly shows the successful management of projects of similar scope by the organization, and/or by the individuals designated to manage or consult on the project. The tribe itself may not have experience to meet this requirement, but the proposed staff and consultants should have the required qualifications and experience.

• The application should clearly describe any previous or current activities of the applicant organization or proposed staff and/or consultants in support of environmental regulatory enhancement.

• The administrative structure of the applicant is explained. Where the proposed ANA project will fit within the current organization is described.

• A project-staffing pattern is presented.

(b) Position descriptions and/or resumes of project personnel, including those of consultants, are presented.

• The position descriptions and/or resumes relate specifically to the staff proposed in the Project Approach and in the proposed Budget of the application.

• Position descriptions very clearly describe each position, and the duties that clearly relate to the personnel staffing pattern required to achieve the project objectives.

• Resumes indicate that the proposed staff is qualified to carry out the project activities. Resumes must be included if individuals have been identified for positions in the application.

Either the position descriptions or the resumes contain the qualifications and/or specialized skills necessary for overall quality management of the project.

Note: Applicants are strongly encouraged to give preference to Native Americans in hiring staff and subcontracting services under an approved ANA grant.

(3) Project Approach: Objectives, Activities and Outcomes (50 Points)

The application provides a narrative describing the overall approach and operation of the proposed project throughout entire project period.

(a) Objective and Activities: The application proposes specific project Objective Work Plans (OWPs) with activities that relate to each specific objective. The OWP includes project objectives and activities for each budget period proposed.

The OWP demonstrates that each of the project objectives and its activities:

• Supports the community's strategy for environmental regulatory enhancement;

• Clearly relates to the community's long-range environmental goals;

• Can be accomplished with the available or expected resources during the proposed project period;

• Indicates when the objective, and major activities under each objective, will be accomplished;

• Specifies who will conduct the activities under each objective; and

• Supports a project that will be completed, self-sustaining, or financed by other than ANA funds at the end of the project period. All projects funded by ANA must be completed, self-sustaining, or supported with other than ANA funds at the end of the project period. “Completed” means that the project ANA funded is finished, and the desired result(s) have been attained. “Self-sustaining” means that a project will continue without outside resources. “Supported by other than ANA funds” means that the project will continue beyond the ANA project period, but will be supported by funds other than ANA's; and is measurable and/or quantifiable in terms of outcomes.

The OWP should be of sufficient detail to become a monthly staff guide for project responsibilities. Applicants are encouraged to follow the recommended ANA application kit format; however, it is not a requirement. The relevant information included in an Objective Work Plan should indicate what is to be achieved, how, by whom, when and with indicators of evaluation.

(b) Completion of the proposed objectives will result in specific, measurable outcomes.

• The application shows how the expected outcomes will help the community meet its long-range environmental goals.

• The specific information provided in the narrative and Objective Work Plans on expected outcomes for each objective is the standard upon which its achievement can be evaluated at the end of each budget year.

(4) Budget (15 Points)

Detailed Federal and non-federal share line item budgets and detailed budget justifications are provided for each budget period requested. The budget narrative provides information that:

• Aligns with the budget categories in Section B of the Budget Information on the Standard Form 424-A.

• Cites the source of the applicant's non-Federal share.

• Explains the coordination and organized delivery of any non-ANA resources proposed for the project.

• Includes and justifies sufficient cost and other necessary details to facilitate the determination of allowable costs and the relevance of these costs to the proposed project.

• Requests funds that are appropriate and necessary for the scope of the proposed project.

• Includes sufficient funds for principal representatives from the applicant organization to travel to one post-award grant training and technical assistance conference. This travel and training should occur as soon as practical.

• For business development projects, the proposal demonstrates that the expected return on the funds used to develop the project provides a reasonable operating income and return within a future specified period.

• Where implemented, includes an employee fringe benefit budget that provides grant-funded employees with a retirement plan in addition to Social Security. The applicant is encouraged to provide a retirement plan fringe benefit of up to five (5) percent of grant funded employees-salaries. ANA supports a retirement plan as a necessary, reasonable and allowable cost in accordance with OMB rules. Recommended features for an acceptable retirement fringe benefit plan are:

• The plan exists for the exclusive benefit of the participants; funds are to be used for retirement and certain other pre-retirement needs, not for the organization's needs.

• The plan must have a vesting schedule that does not exceed the initial budget period of the ANA grant.

Other retirement proposals may be submitted for review and approval during grant award negotiations. Alternate proposals may include the use of Individual Retirement Accounts, Money Purchase Pension Plans, Defined Benefit Pension Plans, Combination Plans, etc.

• If an applicant plans to charge or otherwise seek credit for indirect costs in its ANA application, a current copy of its Indirect Cost Agreement must be included in the application.

G. Application Due Date

The closing date for submission of applications under this competitive area is February 28, 2003.

H. Program Information Contact

ANA Applicant Help Desk, Administration for Children and Families, Administration for Native Americans, Aerospace Center—901 D Street SW., Washington, DC 20447, (877) 922-9262 (toll free).

Part III—General Application Information and Guidance

A. Definitions

Funding areas in this program announcement are based on the following definitions:

• Multi-purpose Community-based Native American Organization: Is an association and/or corporation whose charter specifies that the community designates the Board of Directors and/or officers of the organization through an elective procedure and that the organization functions in several different areas of concern to the members of the local Native American community. These areas are specified in the by-laws and/or policies adopted by the organization. They may include, but need not be limited to, economic, artistic, cultural, and recreational activities, and the delivery of human services such as health care, daycare, counseling, education, and training.

• Multi-year Project: Is a project on a single theme that requires more than 12 months to complete and affords the applicant an opportunity to develop and address more complex and in-depth strategies than can be completed in one year. A multi-year project cannot be a series of unrelated objectives with activities presented in chronological order over a two or three year period.

• Budget Period: Is the interval of time (usually 12 months) into which the project period is divided for budgetary and funding purposes.

• Environmental Regulatory Enhancement: Includes (but is not limited to) the planning, development, and application of laws, training, monitoring, and enforcement procedures, tribal courts, environmental laboratories and other facilities, and associated regulatory activities to strengthen the tribal government's capacity to enhance the quality of reservation life as measured by the reduction of pollutants in the air, water, soil, food and materials encountered by inhabitants of tribes and villages.

• Real Property: Means land, including land improvements, structures and appurtenances thereto, excluding movable machinery and equipment.

• Construction: Is the term, which specifies a project, supported through a discretionary grant or a cooperative agreement, to support the initial building of a facility.

• Core Administration: Is funding for staff salaries for those functions which support the organization as a whole, or for purposes unrelated to the actual management or implementation of work conducted under an ANA approved project. However, functions and activities that are clearly project related are eligible for grant funding. For example, the management and administrative functions necessary to carry out an ANA approved project are not considered core administration and are, therefore, eligible costs. Additionally, ANA will fund the salaries of approved staff for time actually and reasonably spent to implement a funded ANA project.

• Equipment: Is tangible, non-expendable personal property having a useful life of more than one year and an acquisition cost of $5,000 or more per unit.

• Renovation or Alteration: May not exceed the lesser of $150,000 or 25% of the total direct costs approved for the entire budget period. The work required to change the interior arrangements or other physical characteristics of an existing facility or installed equipment so that it may be more effectively used for the project. Alteration and renovation may include work referred to as improvements, conversion rehabilitation, remodeling or modernization, but is distinguished from construction and large-scale permanent improvements.

B. Activities That Cannot Be Funded

The Administration for Native Americans does not fund:

• Projects that operate indefinitely or require ANA funding on a recurring basis.

• Projects in which a grantee would provide training and/or technical assistance (T/TA) to other tribes or Native American organizations which are otherwise eligible to apply to ANA (third party T/TA). However, the purchase of T/TA by a grantee for its own use or for its members' use (as in the case of a consortium), where T/TA is necessary to carry out project objectives, is acceptable. In addition, T/TA is an allowable activity for environmental regulatory enhancement projects submitted under Competitive Area 3.

• ANA will not fund the purchase of real property.

• ANA will not fund construction.

• Objectives or activities for the support of core administration of an organization.

• Costs of fund raising, including financial campaigns, endowment drives, solicitation of gifts and bequests, and similar expenses incurred solely to raise capital or obtain contributions are unallowable under a grant award. However, even though these costs are unallowable for purposes of computing charges to Federal awards, they must be treated as direct costs for purposes of determining indirect cost rates and be allocated their share of the organization's indirect costs if they represent activities which (1) include the salaries of personnel, (2) occupy space, and (3) benefit from the organization's indirect costs.

• Projects or activities that generally will not meet the purposes of this announcement are discussed further in Part III, Section G, General Guidance to Applicants, below.

C. Project and Budget Periods

This announcement is inviting applications for project periods up to three years. Awards, on a competitive basis, will be for a one-year budget period, although project periods may be for three years. Applications for continuation grants funded under these awards beyond the one-year budget period but within the three year project period will be entertained in subsequent years on a noncompetitive basis, subject to availability of funds, satisfactory progress of the grantee and a determination that continued funding would be in the best interest of the government.

Therefore, this program announcement does not apply to current ANA grantees with multi-year projects that apply for continuation funding for their second or third year budget periods.

D. Intergovernmental Review of Federal Programs

This program is not covered by Executive Order 12372 or 45 CFR part 100.

E. The Application Process

1. Application Submission

Applicants are strongly encouraged to request a legibly dated receipt from a commercial carrier or U.S. Postal Service as proof of timely mailing. ACF cannot accommodate transmission of applications by fax or through other electronic media. Therefore, applications transmitted to ACF electronically will not be accepted regardless of date or time of receipt. Videotapes and cassette tapes may not be included as part of a grant application for panel review.

No additional material will be accepted, or added to an application, unless it is postmarked by the deadline date.

Number of Copies: Each application should include one signed original and two additional copies of the grant application, including all attachments.

(a) By Mail. Applications must be mailed on or before the specific closing date of this ANA competitive area to: U.S. Department of Health and Human Services, Administration for Children and Families, Office of Grants Management, 370 L'Enfant Promenade, SW., Mail Stop: Aerospace Center—8th Floor West, Washington, DC 20447-0002, Attention: Lois B. Hodge, ANA No. 93581-2003.

(b) By Hand Delivery. Applications may be hand delivered. Applications are accepted between the hours of 8 a.m. to 4:30 p.m., Monday through Friday. They are either received on or before the deadline date or postmarked on or before the established closing date at: Administration for Children and Families, Office of Grants Management, ACF Mail Room, Second Floor, Aerospace Center, 901 D Street, SW., Washington, DC 20024, Attention: Lois B. Hodge, ANA No. 93581-2003.

2. Application Consideration

The ANA Commissioner determines the final action to be taken on each grant application received under this program announcement. The Commissioner's funding decision is based on a review panel's analysis of the application, recommendation and comments of ANA staff, State and Federal agencies having grant performance related information, and other parties. The commissioner makes grant awards consistent with the purpose of the Act, all relevant statutory and regulatory requirements, this program announcement, and the availability of funds. The Administration for Native Americans funds projects that demonstrate the strongest prospects for addressing the stated purposes of this program announcement.

(a) Incomplete applications and applications that do not conform to this announcement will not be accepted for review. ANA will notify applicants in writing of any such determination. An incomplete application is one that is:

• Missing the Application for Federal Assistance form (SF 424).

• Does not have an authorized signature on the SF 424. The application's SF 424 must be signed by a representative authorized (1) to act for the applicant tribe or organization, and (2) to assume the applicant's obligations under the terms and conditions of the grant award, including Native American Program statutory and regulatory requirements.

• Does not include proof of non-profit status, if applicable.

(b) Complete applications that conform to all the requirements of this program announcement are subjected to a competitive review and evaluation process (discussed in section G below). Independent review panels consisting of reviewers familiar with American Indian Tribes and Native American communities and organizations, and environmental issues, as appropriate, evaluate each application using the published criteria in each funding competitive area. As a result of the review, a normalized numerical score will be assigned to each application. A normalized score reflects the average score from the reviewers, adjusted to reflect the average score from the panels.

Successful applicants are notified through an official Financial Assistance Award (FAA) document. The FAA will state the amount of Federal funds awarded, the purpose of the grant, the terms and conditions of the grant award, the effective date of the award, the project period, the budget period, and the amount of the non-ACF matching share requirement.

The Administration for Native Americans will accept only one application per competitive area from any one applicant. If an eligible applicant sends in two applications for the same competitive area, the one with the earlier postmark will be accepted for review unless the applicant withdraws the earlier application.

F. The Review Process

1. Initial Application Review

Eligible applications submitted by the closing date and verified by the postmark will undergo a pre-review screening to determine that:

• The applicant is eligible in accordance with the Eligible Applicants Section of this announcement; and

• The application is signed and submitted by the deadline explained in section G, Application Due Date.

• The application narrative, forms and materials submitted are adequate to allow the review panel to undertake an in depth evaluation and the project described is an allowable type. (All required materials and forms are listed in the Grant Application Checklist in the Application Kit).

Applicants whose applications are subjected to the pre-review described above and which are found ineligible for funding under the program will be notified of their appeal right under Section 810 of the Native American Programs Act of 1974, as amended. ANA will inform applicants whose applications are not submitted by the required date, unsigned, or in some other way incomplete that their applications are being rejected as incomplete or late.

2. Competitive Review of Accepted Applications

Applications which pass the pre-review will be evaluated and rated by an independent review panel on the basis of the specific evaluation criteria listed in Part II. These criteria are used to evaluate the quality of a proposed project, and to determine the likelihood of its success.

Applications will not be ranked based on general financial need.

ANA staff cannot respond to requests for information regarding funding decisions prior to the official notification to the applicants.

After the Commissioner has made decisions on all applications, unsuccessful applicants are notified in writing within 30 days. The notification will be accompanied by a critique including recommendations for improving the application.

3. Appeal of Ineligibility

Applicants who are initially excluded from competitive evaluation because of ineligibility may appeal an ANA decision of applicant ineligibility. Likewise, applicants may also appeal an ANA decision that an applicant has proposed activities are ineligible for funding consideration. The regulations governing the appeals process can be found at 45 CFR 1336.33-35 or the Federal Register of August 19, 1996 (61 FR 42817).

G. General Guidance to Applicants

Application Kit (OMB# 0980-0204, expires April 30, 2003). The application kit contains the necessary forms and instructions to apply for a grant under this program announcement. Application kits may be obtained from ANA training and technical assistance providers. We strongly encourage that applicants follow the review criterion order and the Objective Work Plan format as outlined in the ANA application kit to develop an application. The Kit provides required forms, practical information and helpful suggestions and is an aid to help applicants prepare an ANA application.

Training and Technical Assistance (T/TA): ANA employs contractors to provide short-term training and technical assistance to eligible applicants. T/TA is available under these contracts for a wide range of needs; however, the contractors are not authorized to write applications. The T/TA is provided at no cost. To obtain an application kit and/or, training and technical assistance, applicants are encouraged to contact the appropriate T/TA provider within the appropriate service area. To locate the T/TA provider currently serving the region you are located in, you may call the ANA Applicant Help Desk at 1-877-922-9262 or visit the ANA website at: http://www.acf.hhs.gov/programs/ana/.

The following information is provided to assist applicants in developing a competitive application.

• Applications, which were not funded under a previous closing date and revised for resubmission, should make reference to the changes, or reasons for not making changes, in their current application.

• An application with an original signature and two additional copies are required.

• The Cover Page (included in the Kit) should be the first page of an application, followed by the one-page abstract.

• The applicant should specify the entire project period length on the first page of the SF424, Block 13, not the length of the first budget period. Should the application propose one length of project period and the SF 424 specify a conflicting length of project period, ANA will consider the project period specified on the Form 424 as the request. ANA may negotiate a reduction of the project period.

• Line 15a of the Standard Form 424 must specify the Federal funds requested for the first Budget Period only, not the entire project period.

• Applicants are encouraged to have someone other than the author apply the evaluation criteria in the program announcement and score the application prior to its submission, in order to gain a better sense of the application's quality and potential competitiveness in the ANA review process.

• For purposes of developing an application, applicants should plan for a project start date approximately 120 days after the closing date under which the application is submitted.

• The Administration for Native Americans will not fund essentially identical projects serving the same constituency.

• If other Federal funding sources could support a project, the applicant should fully explain its reasons for not pursuing other Federal funds for the project.

• The Objective Work Plan proposed should be of sufficient detail to become a monthly staff guide for project responsibilities if the applicant is funded.

• If a profit-making venture is being proposed, profits must be reinvested in the business in order to decrease or eliminate ANA's future financial participation. Such revenue must be reported as general program income. A decision will be made at the time of grant award regarding appropriate use of program income. (See 45 CFR part 74 and part 92.)

• Applicants for multi-year projects must justify the entire timeframe of the project (i.e., why the project needs funding for more than one year) and clearly describe the results to be achieved for each objective by the end of each budget period of the total project period. Separate Objective Work Plans (OWPs) must be presented for each project year and a separate itemized budget of the Federal and non-Federal costs of the project for each budget period must be included.

• The Administration for Native Americans will critically evaluate applications in which the acquisition of equipment is a major component of the Federal share of the budget. Equipment is tangible, non-expendable personal property having a useful life of more than one year and an acquisition cost of $5,000 or more per unit. During negotiation, ANA may delete such expenditures from the budget of an otherwise approved application, if not fully justified by the applicant and deemed not appropriate to the needs of the project.

• Applicants are encouraged to request a legibly dated receipt from a commercial carrier or U.S. Postal Service as proof of a timely mailing.

• The application's Form 424 must be signed by the applicant's representative authorized to act with full authority on behalf of the applicant.

• The Administration for Native Americans recommends that the pages of the application be numbered sequentially and that a table of contents is provided. Simple tabbing of the sections of the application is also helpful.

• Applicants may propose a 17-month budget and project period. However, the budget period for the first year of a multi-year project may only be 12 months.

Projects or activities that generally will not meet the purposes of this announcement:

• Projects that request funds for feasibility studies, business plans, marketing plans or written materials, such as manuals, that are not an essential part of the applicant's long-range development plan. As an objective of a larger project, business plans are allowable. ANA expects written evidence of the solid investment of time and consideration on the part of the applicant with regard to the development of business plans. Business plans should be developed based on market analysis and feasibility studies regarding the potential success to the business prior to the submission of the application.

• Core administration functions, or other activities, which essentially support only the applicant's on-going administrative functions.

• Project goals, which are not responsive to this competitive area.

• Proposals from consortia of tribes that are not specific with regard to support from, and roles of, member tribes. ANA expects an application from a consortium to have goals and objectives that will create positive impacts and outcomes in the communities of its members.

• Proposals from consortia of tribes should have individual objectives, which are related to the larger goal of the proposed project. Project objectives may be tailored to each consortium member, but within the context of a common goal for the consortium. ANA will not fund duplicate activities proposed by a consortium and its member tribes.

• Projects that will not be completed, self-sustaining, or supported by other than ANA funds, at the end of the project period.

• ANA will not fund investment capital for purchase or takeover of an existing business, for purchase or acquisition of a franchise, or for purchase of stock or other similar investment instruments.

• Renovation or alteration of project facilities, unless it is essential for the project.

• Projects originated and designed by consultants whom provide a major role for themselves in the proposed project and are not members of the applicant organization, tribe or village.

H. Paperwork Reduction Act of 1995

Under the Paperwork Reduction Act of 1995, Pub. L. 104-13, the Department is required to submit to the Office of Management and Budget (OMB) for review and approval any reporting and record keeping requirements in regulations including program announcements. This program announcement does not contain information collection requirements beyond those approved for ANA grant applications under the Program Narrative Statement by OMB approval number 0980-0204.

I. Postmarked by Deadline

The closing date for submission of applications is February 28, 2003. Mailed applications postmarked after the closing date will be classified as late.

1. Deadline: Mailed applications shall be considered as meeting an announced deadline if they are either received on or before the deadline date or sent on or before the deadline date and received by ACF in time for the independent review to: U.S. Department of Health and Human Services, Administration for Children and Families, Office of Grants Management, 370 L'Enfant Promenade SW., Mail Stop: Aerospace Center 8th Floor West, Washington, DC 20447-0002, Attention: Lois B. Hodge.

Applicants must ensure that a legibly dated U.S. Postal Services postmark or a legibly dated, machine produced postmark of a commercial mail service is affixed to the envelope/package containing the application(s). To be acceptable as a proof of timely mailing, a postmark from a commercial mail service must include the logo/emblem of the commercial mail service company from the applicant. Private metered postmarks shall not be acceptable as proof of timely mailing. (Applicants are cautioned that express/overnight mail services do not always deliver as agreed.)

Applicants handcarried by applicants, applicant couriers, or by other representatives of the applicant shall be considered as meeting an announced deadline if they are received on or before the deadline date, between the hours of 8 a.m. and 4:30 p.m., EST, at the U.S. Department of Health and Human Services, Administration for Children and Families, Office of Grants Management, ACF Mail Room, Second Floor, Aerospace Center, 901 D Street SW, Washington, DC 20024, between Monday and Friday (excluding Federal holidays). The address must appear on the envelope/package containing the application with the note “Attention: Lois B. Hodge, Grants Officer”. (Applicants are cautioned that express/overnight mail services do not always deliver as agreed.)

ACF cannot accommodate transmission of applications by fax or through other electronic media. Therefore, applications transmitted to ACF electronically will not be accepted regardless of date or time of submission and time receipt. Applications and related materials postmarked after the closing date will be classified as late. No additional material will be accepted, or added to an application, unless it is postmarked by the deadline date.

2. Late Applications: Applications, which do not meet the Deadline criteria above, are considered late applications. ACF shall notify each late applicant that its application will not be considered in the current competition.

3. Extension of Deadlines: The Administration for Children and Families may extend an application deadline for applicants affected by acts of God such as floods and hurricanes, or when there is a widespread disruption of the mails. A determination to extend or waive deadline requirements rests with the Chief Grants Management Officer. J. Standard Language Concerning the Certifications, Assurances, and Disclosure Required for Non-Construction Programs.

Applicants requesting financial assistance for non-construction projects must file the Standard Form 424B, “Assurances: Non-Construction Programs”. Applicants must sign and return the Standard Form 424B with their applications.

Applicants must provide a certification regarding lobbying when applying for an award in excess of $100,000. Applicants must sign and return the certification with their applications. Applicants must disclose lobbying activities on the Standard Form LLL when applying for an award in excess of $100,000. Applicants who have used non-Federal funds for lobbying activities in connection with receiving assistance under this announcement shall complete a disclosure form to report lobbying. Applicants must sign and return the disclosure form, if applicable, with their applications.

Applicants must make the appropriate certification of their compliance with the Drug-Free Workplace Act of 1988. By signing and submitting the application, the applicant is providing the certification and need not mail back the certification with the applications.

Applicants must make the appropriate certification that they are not presently debarred, suspended, or otherwise ineligible for an award. By signing and submitting the application, the applicant is providing the certification and need not mail back the certification with the applications.

(Catalog of Federal Domestic Assistance Program Numbers: 93.581 Improving the Capability of Indian Tribal Governments to Regulate Environmental Quality)
Dated: October 15, 2002.
Sharon G. McCully,
Acting Deputy Commissioner, Administration for Native Americans.

[FR Doc. 02-29932 Filed 11-25-02; 8:45 am]

BILLING CODE 4184-01-P